Title 3—

The President

Proclamation 10520 of February 3, 2023

30th Anniversary of the Family and Medical Leave Act

By the President of the United States of America

A Proclamation

For 30 years, the Family and Medical Leave Act (FMLA) has given American workers the right to take time to care for themselves and their loved ones without losing their jobs. When President Clinton signed it into law on February 5, 1993, I was proud to have fought for it as a United States Senator alongside tenacious advocates and Members of Congress.

Before its passage, parents were not guaranteed time off for staying home with a newborn or sick child, and workers could lose their health insurance for taking leave to fight an illness. The FMLA ended that for millions of Americans, guaranteeing up to 12 weeks of unpaid leave annually to care for a spouse, a parent, a child, or themselves, and preserving their jobs until they returned. The law has given countless Americans peace of mind in their toughest moments. It has made workplaces fairer and healthier. And it has made it easier for millions of women—who still disproportionately shoulder caregiving responsibilities—to remain in the workforce, benefitting our whole economy.

But it is not enough to just protect people's jobs; we must also protect their paychecks so every American worker can afford to be there for their loved ones. The COVID-19 pandemic made this even more obvious. The United States is one of the only countries in the world that does not provide paid leave to its workers, undermining the health and economic security of families and our Nation. As millions more Americans join today's so-called “sandwich generation,” struggling to care for both young kids and aging parents, we need to help.

That is why, when I took office as President, I proposed the first national paid family and medical leave program in our history. Paid leave would help bring more people back into the workforce—boosting productivity, securing wages, and easing budgets for working families. And it would give workers more dignity and control over their own lives.

During the depths of the COVID-19 pandemic, my Administration expanded the Child Tax Credit to give millions of families a little more breathing room, helping cut child poverty to the lowest rate on record. We gave 200,000 childcare providers the funding needed to keep their doors open, serving over 9.5 million children nationwide. We invested $145 million in the National Family Caregiver Support Program, which gives family and other informal care providers counseling, training, and respite care to support loved ones. I recently signed the Pregnant Workers Fairness Act to ensure that employers make reasonable accommodations related to pregnancy, childbirth, or related medical conditions. And just yesterday, I signed a Presidential Memorandum to make sure Federal employees are able to access leave when they need it, to the fullest extent possible.

I ran for President to restore the backbone of this country—the middle class. My Administration is fighting for working families across the board. We are lowering health care costs and prescription drug costs. We are reducing home energy bills. We have created nearly 11 million jobs, reducing unemployment to a 50-year low as wages keep rising. And we have protected the pensions that over a million American workers and retirees worked for their whole lives, making sure they can retire with dignity and respect. Thirty years after the FMLA was signed, we reaffirm that nothing is more important than being there for the ones you love when they need you most.

NOW, THEREFORE, I, JOSEPH R. BIDEN JR., President of the United States of America, by virtue of the authority vested in me by the Constitution and the laws of the United States, do hereby proclaim February 5, 2023, as the 30th Anniversary of the Family and Medical Leave Act. I call upon Americans to honor those who advocated for this crucial legislation and to join the fight for the dignity and rights of workers across this Nation.

IN WITNESS WHEREOF, I have hereunto set my hand this third day of February, in the year of our Lord two thousand twenty-three, and of the Independence of the United States of America the two hundred and forty-seventh.

[FR Doc. 2023-02757

Filed 2-6-23; 11:15 am]

Billing code 3395-F3-P